FEDERAL MARITIME COMMISSION

Sunshine Act Meeting

TIME AND DATE: February 17, 2021; 2:00 p.m.

PLACE: This meeting will be held by video-conference only.

STATUS: This meeting will be closed to the public.

MATTERS TO BE CONSIDERED:

1. Fact Finding 29 Update: Addressing unreasonable detention, demurrage, and other carrier and port practices; enforcement options.

CONTACT PERSON FOR MORE INFORMATION: Rachel Dickon, Secretary, (202) 523-5725.

Rachel Dickon,
Secretary.

[FR Doc. 2021-03061 Filed 2-10-21; 4:15 pm]

BILLING CODE 6730-02-P